DEPARTMENT OF LABOR

Employment and Training Administration

[TA-W-50,546 and TA-W-50,546A]

Emerson Tool Company, Paris, TN; Emerson Tool Company Headquarters, St. Louis, MO; Amended Certification Regarding Eligibility To Apply for Worker Adjustment Assistance

In accordance with Section 223 of the Trade Act of 1974 (19 U.S.C. 2273) the Department of Labor issued a Notice of Certification Regarding Eligibility to Apply for Worker Adjustment Assistance on January 15, 2003, applicable to workers of Emerson Tool Company, Paris, Tennessee. The notice was published in the Federal Register on February 6, 2003 (68 FR 6212).

At the request of the company, the Department reviewed the certification for workers of the subject firm. The workers were engaged in the production of power tools.

The company reports that worker separations occurred at the Headquarters, St. Louis, Missouri location of the subject firm. Workers at the St. Louis, Missouri location provide administrative function services for the subject firm's production plant located in Paris, Tennessee.

Based on these findings, the Department is amending the certification to include workers of Emerson Tool Company, Headquarters, St. Louis, Missouri.

The intent of the Department's certification is to include all workers of Emerson Tool Company who were adversely affected by increased imports.

The amended notice applicable to TA-W-50,546 is hereby issued as follows:

All workers of Emerson Tool Company, Paris, Tennessee (TA-W-50.546) and Emerson Tool Company, Headquarters, St Louis, Missouri (TA-W-50,546A), who became totally or partially separated from employment on or after January 10, 2002, through January 15, 2005, are eligible to apply for adjustment assistance under Section 223 of the Trade Act of 1974.

Signed at Washington, DC this 24th day of September 2003.
Richard Church,
Certifying Officer, Division of Trade Adjustment Assistance.

[FR Doc. 03-26488 Filed 10-20-03; 8:45 am]

BILLING CODE 4510-30-P